DEPARTMENT OF JUSTICE

Notice of Lodging of Proposed Consent Decree Under the Oil Pollution Act

On October 19, 2017, the Department of Justice lodged a proposed Consent Decree (“Consent Decree”) with the United States District Court for the District of Massachusetts in the lawsuit entitled United States, et al. v. Bouchard Transportation Company, Inc., et al., Civil Action No. 1:17-cv-12046-NMG.

The proposed Consent Decree will settle claims of the United States (on behalf of the Department of Commerce/National Oceanic and Atmospheric Administration and the Department of the Interior/Fish and Wildlife Service), the Commonwealth of Massachusetts, and the State of Rhode Island for injuries to birds (other than piping plover) under the Oil Pollution Act, 33 U.S.C. 2701, et seq., (“Trustees”) against Bouchard Transportation Company, Inc., and related companies (“Defendants”), caused by an oil spill from the tank barge Bouchard No. 120 which occurred in April 2003 in Buzzards Bay. Under the proposed Consent Decree, the Defendants will pay $13,300,000 to the Trustees as damages for injuries to wildlife resources, as defined in the Consent Decree. The payment will be used to plan for and implement the restoration, rehabilitation, replacement, or acquisition of the equivalent of the damaged resources. In addition, the Defendants acknowledge payment of almost $3,500,000 to the Trustees for reimbursement of their assessment costs. The proposed Consent Decree is the second settlement between the Trustees and the Defendants for injuries to natural resources caused by the oil spill. Under the first settlement, entered by the District Court in 2011, the Defendants paid the Trustees $6,076,393 for injuries to other natural resources caused by the oil spill.

The publication of this notice opens a period for public comment on the proposed Consent Decree. Comments should be addressed to the Assistant Attorney General, Environment and Natural Resources Division, and should refer to United States, et al. v. Bouchard Transportation Company, Inc., et al., D.J. Ref. No. 90-5-1-1-08159/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $22.75 (25 cents per page reproduction cost), payable to the United States Treasury.

Robert E. Maher, Jr.,
Assistant Section Chief, Environmental Enforcement Section, Environment and Natural Resources Division.

[FR Doc. 2017-23259 Filed 10-25-17; 8:45 am]

BILLING CODE 4410-15-P